DEPARTMENT OF HEALTH AND HUMAN SERVICES

National Institutes of Health

Eunice Kennedy Shriver National Institute of Child Health & Human Development; Amended Notice of Meeting

Notice is hereby given of a change in the meeting of the National Institute of Child Health and Human Development Special Emphasis Panel on Pediatric Trauma and Injury Prevention, which was published in the Federal Register on September 25, 2019, 84 FR 50460.

This meeting's location and format has changed from an in-person meeting at the Residence Inn, Bethesda MD to an IAT/Teleconference meeting at 6710B Rockledge Dr., Bethesda MD. The meeting is closed to the public.

Dated: October 2, 2019.
Ronald J. Livingston, Jr.,
Program Analyst, Office of Federal Advisory Committee Policy.

[FR Doc. 2019-21850 Filed 10-7-19; 8:45 am]

BILLING CODE 4140-01-P